DEPARTMENT OF ENERGY

Federal Energy Regulatory Commission

Combined Notice of Filings

Take notice that the Commission has received the following Natural Gas Pipeline Rate and Refund Report filings:

Filings Instituting Proceedings

Docket Number: PR17-4-000.

Applicants: Columbia Gas of Ohio, Inc.

Description: Tariff filing per 284.123(b) + (e) COH SOC to be effective 10/27/2016; Filing Type: 980.

Filed Date: 11/15/16.

Accession Number: 201611155070.

Comments/Protests Due: 5 p.m. ET 12/6/16.

Docket Number: PR17-5-000.

Applicants: NET Mexico Pipeline Partners, LLC.

Description: Tariff filing per 284.123(b) + (e) + (g): Revised Statement of Operating Conditions to be effective 11/16/2016; Filing Type: 1300.

Filed Date: 11/16/2016.

Accession Number: 201611165072.

Comments Due: 5 p.m. ET 12/7/16.

284.123(g) Protests Due: 5 p.m. ET 1/17/17.

Docket Number: PR17-6-000.

Applicants: Enable Illinois Intrastate Transmission, LLC.

Description: Tariff filing per 284.123(e) + (g): Cancellation of SOC to be effective 11/16/2016; Filing Type: 1290.

Filed Date: 11/16/2016.

Accession Number: 201611165131.

Comments Due: 5 p.m. ET 12/7/16.

284.123(g) Protests Due: 5 p.m. ET 1/17/17.

Docket Numbers: RP17-184-000.

Applicants: Southern Natural Gas Company, L.L.C.

Description: Compliance filing Annual Report on Operational Transactions.

Filed Date: 11/17/16.

Accession Number: 20161117-5050.

Comments Due: 5 p.m. ET 11/29/16.

Docket Numbers: RP17-185-000.

Applicants: Tennessee Gas Pipeline Company, L.L.C.

Description: § 4(d) Rate Filing: Volume No. 2—Neg. Rate Agmt—Crestwood Gas Marketing LLC SP39122 to be effective 11/1/2016.

Filed Date: 11/17/16.

Accession Number: 20161117-5077.

Comments Due: 5 p.m. ET 11/29/16.

Docket Numbers: RP17-186-000.

Applicants: Ruby Pipeline, L.L.C.

Description: § 4(d) Rate Filing: Ruby FLU Filing to be effective 1/1/2017.

Filed Date: 11/18/16.

Accession Number: 20161118-5060.

Comments Due: 5 p.m. ET 11/30/16.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceedings

Docket Numbers: RP16-1299-001.

Applicants: Kinetica Energy Express, LLC.

Description: Compliance filing: Compliance Filing to be effective 11/1/2016.

Filed Date: 11/18/16.

Accession Number: 20161118-5051.

Comments Due: 5 p.m. ET 11/30/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated November 21, 2016.
Nathaniel J. Davis, Sr.,
Deputy Secretary.

[FR Doc. 2016-28808 Filed 11-29-16; 8:45 am]

BILLING CODE 6717-01-P